FEDERAL COMMUNICATIONS COMMISSION

[EB Docket No. 06-53; DA 06-494]

Complaint Filed by Arkansas Cable Telecommunications Association; Comcast of Arkansas, Inc.; Buford Communications I, L.P. d/b/a Alliance Communications Network; WEHCO Video, Inc.; and TCA Cable Partners d/b/a Cox Communications Against Entergy Arkansas, Inc.

AGENCY: Federal Communications Commission.

ACTION: Notice.

SUMMARY: The Commission released a document initiating a hearing to determine whether Entergy Arkansas, Inc. (Entergy) unlawfully imposed on Arkansas Cable Telecommunications Association; Comcast of Arkansas, Inc.; Buford Communications I, L.P. d/b/a Alliance Communications Network; WEHCO Video, Inc.; and TCA Cable Partners d/b/a Cox Communications (collectively, Cable Operators) a variety of allegedly unjust, unreasonable, and discriminatory terms and conditions of attachment, and whether Entergy unlawfully denied Comcast of Arkansas, Inc. and Alliance Communications Network access to its poles. To avail themselves of the opportunity to participate in this hearing, the parties were required to file a written Notice of Appearance with the Office of the Commission Secretary, stating an intention to appear on the date fixed for the hearing and present evidence on the issues specified in the document.

DATES: The document was mailed to the parties on March 2, 2006. The parties were required to file their Notices of Appearance by March 22, 2006.

ADDRESSES: Federal Communications Commission, 445 12th Street, SW., Room TW-204(B), Washington, DC 20554.

FOR FURTHER INFORMATION CONTACT: Michael Engel, 202-418-1516.

SUPPLEMENTARY INFORMATION: The complete text of this Hearing Designation Order is available for inspection and copying during normal business hours in the FCC Reference Information Center, Portals II, 445 12th Street, SW., Room CY-A257, Washington, DC 20554. This document may also be purchased from the Commission's duplicating contractor, Best Copy and Printing, Inc. (BCPI), Portals II, 445 12th Street, SW., Room CY-B402, Washington, DC 20554, telephone 202-863-2893, facsimile 202-863-2898, or via e-mail at www.bcpiweb.com.

Federal Communications Commission.
Christopher N. Olsen,
Deputy Chief, Enforcement Bureau.

[FR Doc. E6-5580 Filed 4-18-06; 8:45 am]

BILLING CODE 6712-01-P